DEPARTMENT OF THE INTERIOR

Bureau of Land Management

[WY-100-08-1610-DQ]

Notice of Availability of the Pinedale Proposed Resource Management Plan and Final Environmental Impact Statement, Wyoming

AGENCY: Bureau of Land Management, Interior.

ACTION: Notice of availability.

SUMMARY: In accordance with of the National Environmental Policy Act of 1969 and the Federal Land Policy and Management Act of 1976, the Bureau of Land Management (BLM) and its cooperating agencies, have prepared a Proposed Resource Management Plan/Final Environmental Impact Statement (PRMP/FEIS) for the Pinedale Field Office.

DATES: The BLM Planning regulations (43 CFR 1610.5-2) state that any person who meets the conditions as described in the regulations may protest the BLM's Proposed RMP. A person who meets the conditions and files a protest must file the protest within 30 days of the date that the Environmental Protection Agency publishes this notice in the Federal Register.

ADDRESSES: Copies of the Pinedale PRMP/FEIS have been sent to affected Federal, state, and local government agencies and to interested parties. Copies of the PRMP/FEIS will be available for public inspection at the following locations:

• Bureau of Land Management, Wyoming State Office, 5353 Yellowstone Road, Cheyenne, Wyoming 82003.

• Bureau of Land Management, Pinedale Field Office, 1625 W Pine Street, Pinedale, Wyoming 82941.

Interested persons may also review the PRMP/FEIS on the Internet at http://www.blm.gov/rmp/wy/pinedale. All protests must be in writing and mailed to the following addresses:

Regular Mail: Director (210), Attention: Brenda Williams, P.O. Box 66538, Washington, DC 20035.

Overnight Mail: Director (210), Attention: Brenda Williams, 1620 L Street, N.W., Suite 1075, Washington, DC 20036.

FOR FURTHER INFORMATION CONTACT: Chuck Otto, Field Manager, or Kellie Roadifer, Pinedale RMP Team Leader, 1625 W Pine Street, Pinedale, Wyoming 82941, or by telephone at (307) 367-5309.

SUPPLEMENTARY INFORMATION: The Pinedale Field Office planning area includes public land and federal mineral ownership in Sublette and Lincoln Counties, Wyoming. The area includes approximately 923,000 acres of BLM-administered surface lands and approximately 1,199,000 acres of Federal mineral estate under Federal, state, and private surface.

The Draft RMP/Draft EIS was made available for public review and comment for a 121-day period beginning on February 16, 2007. The Draft RMP/Draft EIS described and analyzed four alternatives for the management of the public lands and resources, including the Federal mineral estate administered by the BLM Pinedale Field Office:

Alternative 1 (No Action): Continues to balance the use and development of resources under current management guidance;

Alternative 2: Provides development and use opportunities while minimizing adverse impacts to cultural and natural resources;

Alternative 3: Focuses on greater conservation of natural and cultural resources while providing for compatible development and use; and

Alternative 4 (Agency Preferred Alternative): Provides development opportunities while protecting sensitive resources.

The key issues addressed by the alternatives are: (1) Development of energy resources and minerals; (2) special management designations; (3) public access and transportation planning; (4) wildland-urban interface; (5) management of special status species; (6) water quality; (7) vegetation management; (8) recreation activities; (9) cultural resources management; (10) air quality; and (11) wildlife management.

The Draft RMP/Draft EIS included recommendations regarding Areas of Critical Environmental Concern (ACECs). While the Draft RMP/EIS fully documented the ACECs considered, to ensure that BLM provided the public with the required 60-day review and comment period as required by 43 CFR 1610.7-2, the BLM published a notice of supplemental information describing the proposed ACECs and associated values and use limitations in the Federal Register on February 21, 2008.

There are two ACECs in the existing Pinedale Field Office land use plan (1988): Rock Creek ACEC (5,300 acres) and Beaver Creek ACEC (3,590 acres). There are 6 potential new ACECs proposed in the Draft RMP/EIS. The ACECs are:

• Trapper's Point ACEC (550 acres [Alternative 2], 4,000 acres [Alternative 4], or 9,540 acres [Alternative 3]): Values of concern are big game migration corridors, cultural and historic properties, and livestock trailing. Within this ACEC, fence construction and surface disturbing activities would be prohibited with the exception of activities designed to increase big game migration viability. The ACEC would be unavailable for oil and gas leasing. Off-road vehicle use would be restricted to designated roads and trails and subject to a seasonal closure from November 15 through April 30 annually.

• New Fork Potholes ACEC (1,800 acres [Alternatives 3 and 4] ): Values of concern are waterfowl, trumpeter swan, and riparian habitats. With the exception of those that would benefit wildlife habitat, surface disturbing activities would be prohibited. The ACEC would be unavailable for oil and gas leasing. Off-road vehicle use would be restricted to designated roads and trails.

• Upper Green River ACEC (12,270 acres [Alternative 3]): Values of concern are big game migration routes and migration bottlenecks, and high scenic and recreational values. The ACEC would be unavailable for oil and gas leasing. Off-road vehicle use would be restricted to designated roads and trails, and no net increase in miles of roads would be allowed.

• White-Tailed Prairie Dog ACEC (no acreage estimate available [Alternative 3]): The White-Tailed Prairie Dog (WTPD) ACEC would not have a specific area but would involve a number of townships where WTPD habitat might be found in future surveys. The value of concern is habitat for the WTPD. Surveys for prairie dog presence would be required prior to authorizing any activities. Anti-raptor perching devices would be required on any above-ground facilities located within 1/4 mile of WTPD towns greater than 12.5 acres in size, and surface-disturbing activities would be prohibited in these towns. Off-road vehicle use would be limited to designated roads and trails, and poisoning of prairie dogs would be prohibited except in cases of health and safety emergencies.

• Ross Butte ACEC (35,670 acres [Alternative 3]): Values of concern are significant cultural resources, archeological landscapes and Native American sacred sites; a unique community of Wyoming sensitive plant species; high-quality paleontological resources; open space and dispersed recreation opportunities; and unique geology and unstable soils. The ACEC would be unavailable for oil and gas leasing and closed to the placement of new communication sites. Off-road vehicle use would be limited to designated roads and trails. Surface occupancy and disturbance would be prohibited on erosive soils, sensitive plant species habitats, and on slopes greater than 10 percent.

• CCC Ponds ACEC (5,530 acres [Alternative 3]): Values of concern are a wildlife migration bottleneck on a well-defined mule deer migration route and recreational values including a developed, non-motorized trail system, fishing ponds, and interpretive facilities. The ACEC would be unavailable for oil and gas leasing and would be closed to mineral location and land disposal. Off-road vehicle use would be limited to designated roads and trails.

Alternative 1 proposes to maintain the status of the two existing ACECs identified in the 1988 Pinedale RMP. Alternative 2 proposes to eliminate the two existing ACECs, and establish a new ACEC at Trapper's Point (550 acres). Alternative 3 proposes to maintain the existing Rock Creek and Beaver Creek ACECs, and establish all of the new ACECs listed above (6), for a total of eight ACECs.

As a result of public scoping and the alternative development process, Alternative 4 (Agency Preferred Alternative) proposes the following ACECs: Maintain the status of one existing ACEC (Beaver Creek); maintain and reduce slightly in size one existing ACEC (Rock Creek); and establish two new ACECs: Trapper's Point (4,000 acres) and New Fork Potholes (1,800 acres).

Comments received on the Draft RMP/EIS from the public and internal BLM review comments were incorporated into the proposed plan. Public comments resulted in the addition of clarifying text but did not significantly change proposed land use decisions. After careful consideration of both public and internal comments received on the Draft RMP/EIS, adjustments and clarifications have been made to Alternative 4, the Preferred Alternative. As modified, Alternative 4 is now presented as the Pinedale Proposed RMP in the Final EIS.

Instructions for filing a protest with the Director of the BLM regarding the PRMP/FEIS may be found in the Dear Reader Letter of the Pinedale PRMP/FEIS and at 43 CFR 1610.5. E-mail and faxed protests will not be accepted as valid protests unless the protesting party also provides the original letter by either regular or overnight mail postmarked by the close of the protest period. Under those conditions, the BLM will consider the e-mail or faxed protests as an advance copy and it will receive full consideration. If you wish to provide the BLM with such advance notification, please direct faxed protests to the attention of the BLM protest coordinator at (202) 557-3599, and e-mails to Brenda_Hudgens-Williams@blm.gov. All protests, including the follow-up letter (if e-mailing or faxing) must be in writing and mailed to the appropriate address, as set forth in the ADDRESSES section above. Before including your phone number, e-mail address, or other personal identifying information in your protest, you should be aware that your entire protest—including your personal identifying information—may be made publicly availability at any time. While you can ask us in your protest to withhold your personal identifying information from public review, we cannot guarantee that we will be able to do so.

Jamie E. Connell,
Acting Associate State Director.

[FR Doc. E8-19534 Filed 8-21-08; 8:45 am]

BILLING CODE 4310-22-P